DEPARTMENT OF ENERGY

Federal Energy Regulatory Commission

18 CFR Part 11

[Docket No. RM03-1-000]

Update of the Federal Energy Regulatory Commission's Fees Schedule for Annual Charges for the Use of Government Lands

November 14, 2002.

AGENCY: Federal Energy Regulatory Commission, DOE.

ACTION: Final rule; update of Federal land use fees.

SUMMARY: In accordance with the Commission's regulations, the Commission by its designee, the Executive Director, is updating its schedule of fees for the use of government lands. The yearly update is based on the most recent schedule of fees for the use of linear rights-of-way prepared by the United States Forest Service. Since the next fiscal year will cover the period from October 1, 2002 through September 30, 2003 the fees in this notice will become effective October 1, 2002. The fees will apply to fiscal year 2003 annual charges for the use of government lands.

EFFECTIVE DATE: October 1, 2002.

FOR FURTHER INFORMATION CONTACT: Fannie Kingsberry, Financial Services Division, Office of the Executive Director, Federal Energy Regulatory Commission, 888 First Street, NE., Washington, DC 20426, (202) 502-6108.

SUPPLEMENTARY INFORMATION:

Document Availability:

In addition to publishing the full text of this document in the Federal Register, the Commission provides all interested persons an opportunity to view and/or print the contents of this document via the Internet through FERC's home page (http://www.ferc.gov) and in FERC's Public Reference Room during normal business hours (8:30 a.m. to 5:00 p.m. Eastern time) at 888 First Street, NE., Room 2A, Washington, DC 20426.

From FERC's home page on the Internet, this information is available in the Federal Energy Regulatory Records Information System (FERRIS). The full text of this document is available on FERRIS in PDF and WordPerfect format for viewing, printing, and/or downloading. To access this document in FERRIS, type the docket number excluding the last three digits of this document in the docket number field.

User assistance is available for FERRIS and the FERC Web site during normal business hours from our Help line at (202) 502-8222 or the Public Reference Room at (202) 502-8371 Press 0, TTY (202) 502-8659. E-mail the Public Reference Room at public.referenceroom@ferc.gov.

The Commission has concluded, with the concurrence of the Administrator of the Office of Information and Regulatory Affairs of OMB that this rule is not a “major rule” as defined in section 351 of the Small Business Regulatory Enforcement Fairness Act of 1996, 5 U.S.C 804(2).

List of Subjects in 18 CFR Part 11

Electric power, Reporting and recordkeeping requirements.

Thomas R. Herlihy,
Executive Director, Office of the Executive Director.

Accordingly, the Commission, effective October 1, 2002, amends part 11 of chapter I, Title 18 of the Code of Federal Regulations, as follows:

PART 11—[AMENDED]

1. The authority citation for part 11 continues to read as follows:

Authority: 16 U.S.C. 791a-825r; 42 U.S.C. 7101-7352.

2. In part 11, appendix A is revised to read as follows:

Appendix A to Part 11—Fee Schedule for FY 2003

State/County | Rate per acre
Alabama:
All counties | $26.25
Arkansas:
All counties | 19.69
Arizona:
Apache | 6.54
Cochise |
Gila |
Graham |
La Paz |
Mohave |
Navajo |
Pima |
Yavapai |
Yuma |
Coconino (north of Colorado R.) |
Coconino (south of Colorado R.) | 26.25
Greenlee |
Maricopa |
Pinal |
Santa Cruz |
California:
Imperial | 13.12
Inyo |
Lassen |
Modoc |
Riverside |
San Bernardino |
Siskiyou | 19.69
Alameda | 32.81
Alpine |
Amador |
Butte |
Calaveras |
Colusa |
Contra Costa |
Del Norte |
El Dorado |
Fresno |
Glenn |
Humboldt |
Kern | 32.81
Kings |
Lake |
Madera |
Mariposa |
Mendicino |
Merced |
Mono |
Napa |
Nevada |
Placer |
Plumas |
Sacramento |
San Benito |
San Joaquin |
Santa Clara |
Shasta |
Sierra |
Solano |
Sonoma |
Stanislaus |
Sutter |
Tehama |
Trinity |
Tulare Kings |
Tuolumne |
Yolo |
Yuba |
Los Angeles | 39.39
Marin |
Monterey |
Orange |
San Diego |
San Francisco |
San Luis Obispo |
San Mateo |
Santa Barbara |
Santa Cruz |
Ventura |
Colorado:
Adams | 6.54
Arapahoe |
Bent |
Cheyenne |
Crowley |
Elbert |
El Paso |
Huerfano |
Kiowa |
Kit Carson |
Lincoln | 6.54
Logan |
Moffat |
Montezuma |
Morgan |
Pueblo |
Sedgewick |
Washington |
Weld |
Yuma |
Baca | 13.12
Broomfield ¹ |
Dolores |
Garfield |
Las Animas |
Mesa |
Montrose |
Otero |
Prowers |
Rio Blanco |
Routt |
San Miguel |
Alamosa | 26.25
Archuleta |
Boulder |
Chaffee |
Clear Creek |
Conejos |
Costilla |
Custer |
Denver |
Delta |
Douglas |
Eagle |
Fremont |
Gilpin |
Grand |
Gunnison |
Hinsdale |
Jackson |
Jefferson |
Lake |
La Plata |
Larimer |
Mineral |
Ouray |
Park |
Pitkin |
Rio Grande |
Saguache |
San Juan | 26.25
Summit |
Teller |
Connecticut:
All Counties | 6.54
Florida:
Baker | 39.39
Bay |
Bradford |
Calhoun |
Clay |
Columbia |
Dixie |
Duval |
Escambia |
Franklin |
Gadsden |
Gilchrist |
Gulf |
Hamilton |
Holmes |
Jackson |
Jefferson |
Lafayette |
Leon |
Liberty |
Madison |
Nassau |
OKaloosa |
Santa Rosa |
Suwannee |
Taylor |
Union |
Wakulla |
Walton |
Washington |
All Other Counties | 65.61
Georgia:
All Counties | 39.39
Idaho:
Cassia | 6.54
Gooding |
Jerome |
Lincoln |
Minidoka |
Oneida |
Owyhee |
Power |
Twin Falls |
Ada | $19.69
Adams | 19.69
Bannock | 19.69
Bear Lake | 19.69
Benewah | 19.69
Bingham | 19.69
Blaine | 19.69
Boise | 19.69
Bonner | 19.69
Bonneville | 19.69
Boundary | 19.69
Butte | 19.69
Camas | 19.69
Canyon | 19.69
Caribou | 19.69
Clark | 19.69
Clearwater | 19.69
Custer | 19.69
Elmore | 19.69
Franklin | 19.69
Fremont | 19.69
Gem | 19.69
Idaho | 19.69
Jefferson | 19.69
Kootenai | 19.69
Latah | 19.69
Lemhi | 19.69
Lewis | 19.69
Madison | 19.69
Nez Perce | 19.69
Payette | 19.69
Shoshone | 19.69
Teton | 19.69
Valley | 19.69
Washington | 19.69
Illinois:
All counties | 19.69
Indiana:
All counties | 32.81
Kansas:
Morton | 13.12
All other counties | 6.54
Kentucky:
All counties | 19.69
Louisiana:
All counties | 39.39
Maine:
All counties | 19.69
Michigan:
Alger | 19.69
Baraga | 19.69
Chippewa | 19.69
Delta | 19.69
Dickinson | 19.69
Gogebic | 19.69
Houghton | 19.69
Iron | 19.69
Keweenaw | 19.69
Luce | 19.69
Macking | 19.69
Marquette | 19.69
Menominee | 19.69
Ontonagon | 19.69
Schoolcraft | 19.69
All other counties | 26.25
Minnesota:
All counties | 19.69
Mississippi:
All counties | 26.25
Missouri:
All counties | 19.69
Montana:
Big Horn | 6.54
Blaine | 6.54
Carter | 6.54
Cascade | 6.54
Chouteau | 6.54
Custer | 6.54
Daniels | 6.54
Mccone | 6.54
Meagher | 6.54
Dawson | 6.54
Fallon | 6.54
Fergus | 6.54
Garfield | 6.54
Glacier | 6.54
Golden Valley | 6.54
Hill | 6.54
Judith Basin | 6.54
Liberty | 6.54
Musselshell | 6.54
Petroleum | 6.54
Phillips | 6.54
Pondera | 6.54
Powder River | 6.54
Prairie | 6.54
Richland | 6.54
Roosevelt | 6.54
Rosebud | 6.54
Sheridan | 6.54
Teton | 6.54
Toole | 6.54
Treasure | 6.54
Valley | 6.54
Wheatland | 6.54
Wibaux | 6.54
Yellowstone | 6.54
Beaverhead | 19.69
Broadwater | 19.69
Carbon | 19.69
Deer Lodge | 19.69
Flathead | 19.69
Gallatin | 19.69
Granite | 19.69
Jefferson | 19.69
Lake | 19.69
Lewis & Clark | 19.69
Lincoln | 19.69
Madison | 19.69
Mineral | 19.69
Missoula | 19.69
Park | 19.69
Powell | 19.69
Ravalli | 19.69
Sanders | 19.69
Silver Bow | 19.69
Stillwater | 19.69
Sweet Grass | 19.69
Nebraska:
All counties | 6.54
Nevada:
Churchill | 3.28
Clark | 3.28
Elko | 3.28
Esmeralda | 3.28
Eureka | 3.28
Humboldt | 3.28
Lander | 3.28
Lincoln | 3.28
Lyon | 3.28
Mineral | 3.28
Nye | 3.28
Pershing | 3.28
Washoe | 3.28
White Pine | 3.28
Carson City | 32.81
Douglas | 32.81
Story | 32.81
New Hampshire:
All counties | 19.69
New Mexico:
Chaves | 6.54
Curry | 6.54
De Baca | 6.54
Dona Ana | 6.54
Eddy | 6.54
Grant | 6.54
Guadalupe | 6.54
Harding | 6.54
Hidalgo | 6.54
Lea | 6.54
Luna | 6.54
McKinley | 6.54
Otero | 6.54
Quay | 6.54
Roosevelt | 6.54
San Juan | 6.54
Socorro | 6.54
Torrence | 6.54
Rio Arriba | 13.12
Sandoual | 13.12
Union | 13.12
Bernalillo | 26.25
Catron | 26.25
Cibola | 26.25
Colfax | 26.25
Lincoln | 26.25
Los Alamos | 26.25
Mora | 26.25
San Miguel | 26.25
Santa Fe | 26.25
Sierra | 26.25
Taos | 26.25
Valencia | 26.25
New York:
All counties | 26.25
North Carolina:
All counties | 39.39
North Dakota:
All counties | 6.54
Ohio:
All counties | 26.25
Oklahoma:
Beaver | 13.12
Cimarron | 13.12
Roger Mills | 13.12
Texas | 13.12
LeFlore | 19.69
McCurtain
All other counties | 6.54
Oregon:
Harney | 6.54
Lake |
Malheur |
Baker | 13.12
Crook |
Deschutes |
Gilliam |
Grant |
Jefferson |
Klamath |
Morrow |
Sherman |
Umatilla |
Union |
Wallowa |
Wasco |
Wheeler |
Coos | 19.69
Curry |
Douglas |
Jackson |
Josephine |
Benton | 26.25
Clackamas |
Clatsop |
Columbia |
Hood River |
Lane |
Lincoln |
Linn |
Marion |
Multnomah |
Polk |
Tillamook |
Washington |
Yamhill |
Pennsylvania:
All counties | 26.25
Puerto Rico:
All | 39.39
South Carolina:
All counties | 39.39
South Dakota:
Butte | 19.69
Custer |
Fall river |
Lawrence |
Mead | 19.69
Pennington |
All other counties | 6.54
Tennessee:
All counties | 26.25
Texas:
Culberson | 6.54
El Paso |
Hudspeth |
All other counties | 39.39
Utah:
Beaver | 6.54
Box Elder |
Carbon |
Duchesne |
Emery |
Garfield |
Grand |
Iron |
Juab |
Kane |
Millard |
San Juan |
Tooele |
Uintah |
Wayne |
Washington | 13.12
Cache | 19.69
Daggett |
Davis |
Morgan |
Piute |
Rich |
Salt Lake |
Sanpete |
Sevier |
Summit |
Utah |
Wasatch |
Weber |
Vermont:
All counties | 26.25
Virginia:
All counties | 26.25
Washington:
Adams | 13.12
Asotin |
Benton |
Chelan |
Columbia |
Douglas |
Franklin |
Garfield |
Grant |
Kittitas |
Klickitat |
Lincoln |
Okanogan |
Spokane |
Walla Walla |
Whitman |
Yakima |
Ferry | 19.69
Pend Oreille |
Stevens |
Clallam | 26.25
Clark |
Cowlitz |
Grays Harbor |
Island |
Jefferson |
King |
Kitsap |
Lewis |
Mason |
Pacific |
Pierce |
San Juan |
Skagit |
Skamania |
Snohomish |
Thurston |
Wahkiakum |
Whatcom |
West Virginia:
All Counties | 26.25
Wisconsin:
All Counties | 19.69
Wyoming:
Albany | 6.54
Campbell |
Carbon |
Converse |
Goshen |
Hot Springs |
Johnson | 6.54
Laramie |
Lincoln |
Natrona |
Niobrara |
Platte |
Sheridan |
Sweetwater |
Fremont |
Sublette |
Uinta |
Washakie |
Big Horn | 19.69
Crook |
Park |
Teton |
Weston |
All Other Zones:
| 6.20
¹ Note: Broomfield County created November 2001 from parts of Adams, Boulder, Jefferson and Weld Counties.

[FR Doc. 02-29400 Filed 11-20-02; 8:45 am]

BILLING CODE 6717-01-P